DEPARTMENT OF ENERGY

Federal Energy Regulatory Commission

[Docket No. RP96-331-016]

National Fuel Gas Supply Corporation; Notice of Proposed Changes in FERC Gas Tariff

February 6, 2001.

Take notice that on February 1, 2001, National Fuel Gas Supply Corporation (National Fuel) tendered for filing as part of its FERC Gas Tariff, Fourth Revised Volume No. 1, Sub. Fourth Revised Sheet No. 12, with a proposed effective date of February 3, 2001.

National Fuel states that the filing is made to correct the termination date of two negotiated rate agreements between National Fuel and TXU Energy Trading Company, accepted by the Commission by letter order dated January 26, 2001, in Docket No. RP96-331-015.

National Fuel states that copies of the filing were served upon its customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.200(a)(1)(iii) and the instructions on the Commission's web site at http://www.ferc.fed.us/efi/doorbell.htm

David P. Boergers,
Secretary.

[FR Doc. 01-3443 Filed 2-9-01; 8:45 am]

BILLING CODE 6717-01-M